DEPARTMENT OF EDUCATION

Applications for New Awards; Education Research and Special Education Research Grant Programs

AGENCY: Institute of Education Sciences, Department of Education.

ACTION: Notice.

SUMMARY: The Department of Education (Department) is issuing a notice inviting applications for new awards for fiscal year (FY) 2024 for the Education Research and Special Education Research Grant Programs, Assistance Listing Numbers (ALNs) 84.305A, 84.324A, 84.324B, and 84.324C. This notice relates to the approved information collection under OMB control number 4040-0001.

DATES: The dates when applications are available and the deadlines for transmittal of applications invited under this notice are indicated in the chart at the end of this notice and in the Requests for Applications (RFAs) that are posted at the following website: https://ies.ed.gov/funding.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs. Please note that these Common Instructions supersede the version published on December 27, 2021.

FOR FURTHER INFORMATION CONTACT: The contact person associated with a particular research competition is listed in the chart at the end of this notice, as well as in the relevant RFA and application package.

If you are deaf, hard of hearing, or have a speech disability and wish to access telecommunications relay services, please dial 7-1-1.

SUPPLEMENTARY INFORMATION:

Full Text of Announcement

I. Funding Opportunity Description

Purpose of Program: In awarding the research grants, the Institute of Education Sciences (IES) intends to provide national leadership in expanding knowledge and understanding of (1) developmental and school readiness outcomes for infants and toddlers with or at risk for a disability, (2) education outcomes for all learners from early childhood education through postsecondary and adult education, and (3) employment and wage outcomes when relevant (such as for those engaged in career and technical, postsecondary, or adult education). The IES research grant programs are designed to provide interested individuals and the general public with reliable and valid information about education practices that support learning and improve academic achievement and access to education opportunities for all learners. These interested individuals include parents, educators, learners, researchers, and policymakers. In carrying out its grant programs, IES provides support for programs of research in areas of demonstrated national need. In awarding research training grant programs, IES aims to prepare individuals to conduct rigorous and relevant education and special education research that advances knowledge within the field and addresses issues important to education policymakers and practitioners.

Competitions in This Notice: IES is announcing four research competitions through two of its centers:

The IES National Center for Education Research (NCER) is announcing one competition in the following area: education research.

The IES National Center for Special Education Research (NCSER) is announcing three competitions—one competition in each of the following areas: special education research, special education research training, and special education research and development center.

NCER Competition

The Education Research Competition (ALN 84.305A). Under this competition, NCER will consider only applications that address one of the following topics:

• Career and Technical Education.

• Civics Education and Social Studies.

• Cognition and Student Learning.

• Early Learning Programs and Policies.

• Improving Education Systems.

• Literacy.

• Policies, Practices, and Programs to Support English Learners.

• Postsecondary and Adult Education.

• Science, Technology, Engineering, and Mathematics (STEM) Education.

• Social, Emotional, and Behavioral Context for Teaching and Learning.

• Teaching, Teachers, and the Education Workforce.

NCSER Competitions

The Special Education Research Competition (ALN 84.324A). Under this competition, NCSER encourages a broad range of research, including studies that may have more than one research focus (such as reading and behavior) and may focus broadly on students with disabilities or on a particular disability (such as autism spectrum disorders). The range of research supported through this program includes, but is not limited to, programs to improve child development and school readiness; academic and/or behavioral interventions; instructional practices and/or professional development programs for teachers and other school-based personnel; strategies for improving the family support and engagement critical to the success of students with disabilities; policies and systems-level interventions and programs to address school finance, school-community collaborations, or school structures that affect educational progress for students with disabilities; transition from secondary school to postsecondary education, career, and/or independent living; as well as access to, persistence in, and completion of postsecondary education.

The Research Training Programs in Special Education Competition (ALN 84.324B). Under this competition, NCSER will consider only applications that address Early Career Development and Mentoring.

Special Education Research and Development Center (R&D Center) (ALN 84.324C). Under this competition, NCSER will consider applications that address Research and Development Center on the K-12 Special Education Teacher Workforce.

Exemption From Proposed Rulemaking: Under section 191 of the Education Sciences Reform Act, 20 U.S.C. 9581, IES is not subject to section 437(d) of the General Education Provisions Act, 20 U.S.C. 1232(d), and is therefore not required to offer interested parties the opportunity to comment on matters relating to grants.

Program Authority: 20 U.S.C. 9501 et seq.

Note: Projects will be awarded and must be operated in a manner consistent with the nondiscrimination requirements contained in Federal civil rights laws.

Applicable Regulations: (a) The Education Department General Administrative Regulations in 34 CFR parts 77, 81, 82, 84, 86, 97, 98, and 99. In addition, the regulations in 34 CFR part 75 are applicable, except for the provisions in 34 CFR 75.100, 75.101(b), 75.102, 75.103, 75.105, 75.109(a), 75.200, 75.201, 75.209, 75.210, 75.211, 75.217(a)-(c), 75.219, 75.220, 75.221, 75.222, 75.230, and 75.250(a). (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

Note: The open licensing requirement in 2 CFR 3474.20 does not apply to these competitions.

II. Award Information

Types of Awards: Discretionary grants and cooperative agreements.

Fiscal Information: Although Congress has not yet enacted an appropriation for FY 2024, IES is inviting applications for these competitions now so that applicants can have adequate time to prepare their applications. The actual level of funding, if any, depends on final congressional action. IES intends to announce additional competitions later in 2023.

Estimated Range of Awards: See chart at the end of this notice. The size of the awards will depend on the scope of the projects proposed.

Estimated Number of Awards: The number of awards made under each competition will depend on the quality of the applications received for that competition and the availability of funds.

For the Special Education Research and Development Center competition (ALN 84.324C), we intend to fund up to one grant for the Special Education Teacher Workforce Center.

For the Special Education Research Competition (ALN 84.324A), contingent on the availability of funds and the quality of applications, we may make additional awards in FY 2024 from the list of highly rated unfunded applications submitted in response to the FY 2023 competition announcement.

Note: The Department is not bound by any estimates in this notice.

Project Period: See chart at the end of this notice.

III. Eligibility Information

1. Eligible Applicants: For the Early Career Development and Mentoring Program under the Research Training Programs in Special Education (ALN 84.324B), applicants must be an institution of higher education in the United States and its territories.

For all other competitions in this notice, applicants that have the ability and capacity to conduct scientifically valid research are eligible to apply. Eligible applicants include, but are not limited to, nonprofit and for-profit organizations and public and private agencies and institutions of higher education, such as colleges and universities.

2. a. Cost Sharing or Matching: These programs do not require cost sharing or matching.

b. Indirect Cost Rate Information: These programs use an unrestricted indirect cost rate. For more information regarding indirect costs, or to obtain a negotiated indirect cost rate, please see www2.ed.gov/about/offices/list/ocfo/intro.html.

3. Subgrantees: Under 34 CFR 75.708(b) and (c) a grantee under this competition may award subgrants—to directly carry out project activities described in its application—to the following types of entities: nonprofit and for-profit organizations and public and private agencies and institutions of higher education. The grantee may award subgrants to entities it has identified in an approved application.

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application. Please note that these Common Instructions supersede the version published on December 27, 2021.

2. Other Information: Information regarding program and application requirements for the competitions is in the currently available IES Application Submission Guide and in the NCER and NCSER RFAs, which are available on the IES website at: https://ies.ed.gov/funding/. The dates on which the application packages for these competitions will be available are indicated in the chart at the end of this notice.

3. Content and Form of Application Submission: Requirements concerning the content of an application are contained in the RFA for the specific competition. The forms that must be submitted are in the application package for the specific competition.

4. Submission Dates and Times: The deadline date for transmittal of applications for each competition is indicated in the chart at the end of this notice and in the RFAs for the competitions.

We do not consider an application that does not comply with the deadline requirements.

5. Intergovernmental Review: These competitions are not subject to Executive Order 12372 and the regulations in 34 CFR part 79.

6. Funding Restrictions: We reference regulations outlining funding restrictions in the Applicable Regulations section of this notice.

V. Application Review Information

1. Selection Criteria: For all of its grant competitions, IES uses selection criteria based on a peer review process that has been approved by the National Board for Education Sciences. The Peer Review Procedures for Grant Applications can be found on the IES website at https://ies.ed.gov/director/sro/peer_review/application_review.asp.

For the 84.305A and 84.324A competitions, peer reviewers will be asked to evaluate the significance of the application, the quality of the research plan, the qualifications and experience of the personnel, the resources of the applicant to support the proposed activities, and the quality of the dissemination history and dissemination plan. These criteria will be described in greater detail in the RFAs.

For the 84.324B competition, peer reviewers will be asked to evaluate the significance of the application, the quality of the research plan, the quality of the career development plan, the qualifications and experience of the personnel, the resources of the applicant to support the proposed activities, and the quality of the dissemination plan. These criteria are described in greater detail in the RFA.

For the 84.324C competition, peer reviewers will be asked to evaluate the significance of the application, the quality of the research plan, the quality of the national leadership plan, the qualifications and experience of the personnel, and the resources of the applicant to support the proposed activities. These criteria are described in greater detail in the RFA.

For all IES competitions, applications must include budgets no higher than the relevant maximum award as set out in the relevant RFA. IES will not make an award exceeding the maximum award amount as set out in the relevant RFA.

2. Review and Selection Process: We remind potential applicants that in reviewing applications in any discretionary grant competition, IES may consider, under 34 CFR 75.217(d)(3), the past performance of the applicant in carrying out a previous award, such as the applicant's use of funds, achievement of project objectives, compliance with the IES policy regarding public access to research, and compliance with grant conditions. IES may also consider whether the applicant failed to submit a timely performance report or submitted a report of unacceptable quality.

In addition, in making a competitive grant award, IES also requires various assurances including those applicable to Federal civil rights laws that prohibit discrimination in programs or activities receiving Federal financial assistance from the Department (34 CFR 100.4, 104.5, 106.4, 108.8, and 110.23).

3. Risk Assessment and Specific Conditions: Consistent with 2 CFR 200.206, before awarding grants under these competitions, the Department conducts a review of the risks posed by applicants. Under 2 CFR 200.208, IES may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under these competitions to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants should budget for an annual meeting of up to three days for project directors to be held in Washington, DC.

4. Reporting: (a) If you apply for a grant under one of the competitions announced in this notice, you must ensure that you have in place the necessary processes and systems to comply with the reporting requirements in 2 CFR part 170 should you receive funding under the competition. This does not apply if you have an exception under 2 CFR 170.110(b).

(b) At the end of your project period, you must submit a final performance report, including financial information, as directed by IES. If you receive a multiyear award, you must submit an annual performance report that provides the most current performance and financial expenditure information as directed by IES under 34 CFR 75.118. IES may also require more frequent performance reports under 34 CFR 75.720(c). For specific requirements on reporting, please go to www.ed.gov/fund/grant/apply/appforms/appforms.html.

5. Performance Measures: To evaluate the overall success of its education research and special education research grant programs, IES annually assesses the percentage of projects that result in peer-reviewed publications and the number of IES-supported interventions with evidence of efficacy in improving learner education outcomes. In addition, NCSER annually assesses the number of newly developed or modified interventions with evidence of promise for improving learner education outcomes. School readiness outcomes include pre-reading, reading, pre-writing, early mathematics, early science, and social-emotional skills that prepare young children for school. Student academic outcomes include learning and achievement in academic content areas, such as reading, writing, math, and science, as well as outcomes that reflect students' successful progression through the education system, such as course and grade completion; high school graduation; and postsecondary enrollment, progress, and completion. Social and behavioral competencies include social and emotional skills, attitudes, and behaviors that are important to academic and post-academic success. Employment and earnings outcomes include hours of employment, job stability, and wages and benefits, and may be measured in addition to student academic outcomes. Additional education outcomes for students with or at risk of a disability (as defined in the relevant RFA) include developmental outcomes for infants and toddlers (birth to age three) pertaining to cognitive, communicative, linguistic, social, emotional, adaptive, functional, or physical development; and developmental and functional outcomes that improve education outcomes, transition to employment, independent living, and postsecondary education; and employment and earning outcomes for students with disabilities.

6. Continuation Awards: In making a continuation award under 34 CFR 75.253, IES considers, among other things: whether a grantee has made substantial progress in achieving the goals and objectives of the project; whether the grantee has expended funds in a manner that is consistent with its approved application and budget; whether a grantee is in compliance with the IES policy regarding public access to research; and if IES has established performance measurement requirements, whether the grantee has made substantial progress in achieving the performance targets in the grantee's approved application.

In making a continuation award, IES also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the relevant program contact person listed in the chart at the end of this notice, as well as in the relevant RFA and application package, individuals with disabilities can obtain this document and a copy of the RFA in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

ALN and name | Application package available | Deadline for transmittal of applications | Estimated range of awards * | Project period | For further information contact
National Center for Education Research (NCER)
84.305A Education Research | July 20, 2023 | September 21, 2023 | $300,000 to $800,000 | Up to 5 years | Lara Faust, Lara.Faust@ed.gov, (202) 245-6532.
Career and Technical Education
Civics Education and Social Studies
Cognition and Student Learning
Early Learning Programs and Policies
Improving Education Systems
Literacy
Policies, Practices, and Programs to Support English Learners
Postsecondary and Adult Education
Science, Technology, Engineering, and Mathematics (STEM) Education
Social, Emotional, and Behavioral Context for Teaching and Learning
Teaching, Teachers, and the Education Workforce
National Center for Special Education Research (NCSER)
84.324A Special Education Research | July 20, 2023 | September 21, 2023 | $200,000 to $760,000 | Up to 5 years | Emily Weaver, Emily.Weaver@ed.gov, (202) 987-0072.
84.324B Research Training Programs in Special Education | July 20, 2023 | September 21, 2023 | $100,000 to $200,000 | Up to 4 years | Katherine Taylor, Katherine.Taylor@ed.gov, (202) 987-0071.
Early Career Development and Mentoring
84.324C Special Education Research and Development Center | September 21, 2023 | January 11, 2024 | $500,000 to $1,000,000 | Up to 5 years | Katherine Taylor, Katherine.Taylor@ed.gov, (202) 987-0071.
Research and Development Center on the K-12 Special Education Teacher Workforce
* These estimates are annual amounts.
Note: The Department is not bound by any estimates in this notice.
Note: If you are deaf, hard of hearing, or have a speech disability and wish to access telecommunications relay services, please dial 7-1-1.

[FR Doc. 2023-15379 Filed 7-19-23; 8:45 am]

BILLING CODE 4000-01-P